DEPARTMENT OF TRANSPORTATION

Federal Railroad Administration

[Docket No. FRA-2012-0006-N-14]

Agency Information Collection Activities; Comment Request

AGENCY: Federal Railroad Administration (FRA), Department of Transportation (DOT).

ACTION: Notice and request for comments.

SUMMARY: In compliance with the Paperwork Reduction Act of 1995, this notice announces that the Information Collection Requirements (ICRs) abstracted below have been forwarded to the Office of Management and Budget (OMB) for review and comment. The ICRs describe the nature of the information collections and their expected burdens. The Federal Register notice with a 60-day comment period soliciting comments on the following collections of information was published on August 6, 2012, volume 77, page number 151.

DATES: Comments must be submitted on or before November 8, 2012.

FOR FURTHER INFORMATION CONTACT: Ms. Janet Wylie, Office of Planning and Administration, RPD-3, Federal Railroad Administration, 1200 New Jersey Ave. SE., Mail Stop 20, Washington, DC 20590 (telephone: (202) 493-6292), or Ms. Kimberly Toone, Office of Information Technology, RAD-20, Federal Railroad Administration, 1200 New Jersey Ave. SE., Mail Stop 35, Washington, DC 20590 (telephone: (202) 493-6132). (These telephone numbers are not toll-free.).

SUPPLEMENTARY INFORMATION: The Paperwork Reduction Act of 1995 (PRA), Public Law 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On August 6, 2012, FRA published a 60-day notice in the Federal Register soliciting comments on ICR that the agency was seeking OMB approval. 77 FR 46800. FRA received one comment after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507(b)-(c); 5 CFR 1320.12(d); see also 60 FR 44978, 44983, August 29, 1995. OMB believes that the 30 day notice informs the regulated community to file relevant comments and affords the agency adequate time to digest public comments before it renders a decision. 60 FR 44983, August 29, 1995. Therefore, respondents should submit their respective comments to OMB within 30 days of publication to best ensure having their full effect. 5 CFR 1320.12(c); see also 60 FR 44983, Aug. 29, 1995.

The summaries below describe the nature of the information collection requirements (ICRs) and the expected burden. The revised requirements are being submitted for clearance by OMB as required by the PRA.

Title: Solicitation of Applications and Notice of Funds Availability for High-Speed Rail Corridors and Intercity Passenger Rail Service-Capital Assistance and Planning Grants Program.

OMB Control Number: 2130-0584.

Type of Request: Revision of a currently approved collection.

Affected Public: States and local governments, government sponsored authorities and corporations, railroads.

Abstract: After 60 years and more than 1.8 trillion investment dollars, the United States has developed the world's most advanced highway and aviation systems. During this time, the nation has made a relatively modest investment in passenger rail systems. As congestion on highways and in the air continues to grow and environmental costs mount, there is a growing need for diverse transportation options.

In 2009, President Obama announced a new vision to address the nation's transportation challenges. He called for a collaborative effort among the Federal government, States, railroads, and other stakeholders to help transform America's transportation system. The President's vision seeks to create an efficient high-speed passenger rail system to connect inner-city communities across America.

Developing a comprehensive high-speed intercity passenger rail network requires a long-term commitment at both the Federal and State levels. The President has jump-started the process with $2 billion provided by the Department of Transportation (DOT) Appropriations Act of 2010 (FY10 Appropriations), $8 billion provided by the American Recovery and Reinvestment Act (ARRA), $90 million provided by the DOT Appropriations Act of 2009 (FY09 Appropriations), and approximately $1.8 million remaining funds from the Transportation, Housing and Urban Development, and Related Agencies Appropriations Act, 2008 (FY08 Appropriations). Additional or future funding for high-speed intercity passenger rail may come from a variety of sources, including annual appropriations, one-time appropriations, redistribution of previously allocated or obligated funds, or distribution of residual funding from previous sources.

The Federal Railroad Administration (FRA) allocates funds to applicants with plans or programs that align with the President's key strategic transportation goals: creating safe and efficient transportation choices, building a foundation for economic competitiveness, promoting energy efficiency and environmental quality, and supporting interconnected livable communities. Grants are being administered for the following types of projects:

• Service Development Programs—Aimed at new high-speed rail corridor services or substantial upgrades to existing corridor services. Grants are intended to fund a set of inter-related projects that constitute a phase (or geographic section) of a long-range corridor plan.

• Individual Projects—Aimed at discrete capital projects that will result in service benefits or other tangible improvements on a corridor. These projects include completion of preliminary engineering (PE), National Environmental Policy Act (NEPA) documentation, final design (FD), and construction, which can include equipment procurements to provide improved service and modernized fleets throughout the country.

• Planning Projects—Aimed at helping to establish a pipeline of future construction projects and corridor development programs by completing Service Development Plans and service-level environmental analysis for corridors that are at an earlier stage of the development process, as well as State Rail Plans.

As the President outlined in his March 20, 2009 memorandum, “Ensuring Responsible Spending of Recovery Act Funds,” implementing agencies are to “develop transparent, merit-based selection criteria that will guide their available discretion in committing, obligating, or expending funds under the Recovery Act.” In order to achieve this goal, FRA created an application process that contains clear selection criteria and evaluation procedures.

The Application Process

In essence, the application process is grounded on three key principles: (1) Promoting collaboration and shared responsibility among the Federal Government and States, groups of States within corridor regions, and governments, railroads and other private entities; (2) managing, rather than eliminating, risk through program management structure, controls and procedures that permit prudent but effective investments; and (3) ensuring early success while building a sustainable program to meet near-term economic recovery goals while developing public consensus for a long-term program. FRA has issued interim program guidance as well as detailed instructions to clearly explain the application process.

The applications include the standard items, such as the SF 424, all ARRA-relevant forms, and other necessary and relevant technical documents that are project-specific and voluntary.

In order to determine eligibility for funds, FRA must solicit applications and collect information from parties interested in obtaining and utilizing these funds for eligible projects.

Following allocation of funds to applicants, FRA must collect information from recipients in the form of various required reports in order to effectively monitor and track the progress of all funded projects. This process consists of:

• Tracking project activities and progress against the approved milestones in the Statement of Work through quarterly submission of the FRA Quarterly Progress Report

• Comparing the rate of a project's actual expenditures to the planned amounts in the approved project budget through the quarterly submission of the Federal Financial Report (SF-425)

• Tracking cumulative funds and job creation through the quarterly submission of the ARRA 1512(c) Report for ARRA recipients

• Capturing the cumulative activities and achievements of the project, with respect to objectives and milestones, through the one-time submission of the Final Performance Report

This collection of information is necessary in order to comply with the funding agreements outlined in the Notice of Grant Agreement and, for ARRA recipients, satisfy legal obligations identified in Section 1501(c).

Form Number(s): FRA F 6180.132, FRA F 6180.133, FRA F 6180.134, FRA F 6180.135, FRA F 6180.138, FRA F 6180.139, SF-425.

Annual Estimated Burden Hours: 20,384.

Addressee: Send comments regarding these information collections to the Office of Information and Regulatory Affairs, Office of Management and Budget, 725 Seventeenth Street NW., Washington, DC, 20503, Attention: FRA Desk Officer. Alternatively, comments may be sent via email to the Office of Information and Regulatory Affairs (OIRA), Office of Management and Budget, at the following address: oira_submissions@omb.eop.gov

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC on October 1, 2012.
Michael Logue,
Associate Administrator for Administration, Federal Railroad Administration.

[FR Doc. 2012-24613 Filed 10-5-12; 8:45 am]

BILLING CODE 4910-06-P